FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 940. Interested parties may submit comments on an agreement to the Secretary, Federal Maritime Commission, Washington, DC 20573, within 10 days of the date this notice appears in the Federal Register.

Agreement No.: 011367-018.

Title: Colombia Discussion Agreement.

Parties:

Frontier Liner services, Inc.

Crowley Liner Services, Inc.

King Ocean Services, S.A. d/b/a King Ocean de Colombia

Hamburg-Sudamerikanische Dampfschifffahrtsgesellschaft Eggert & Amsinck d/b/a Crowley American Transport

A.P. Moller-Maersk Sealand

Seaboard Marine Ltd.

American President Lines, Ltd.

Synopsis: The proposed amendment would allow the parties to negotiate and agree on joint service contracts while retaining the right to negotiate service contracts with non-members who belong to the Colombia Independent Carrier Agreement. The parties are not required to agree to or adhere to any rates, terms or conditions except those entered into pursuant to such service contracts.

Agreement No.: 011528-016.

Title: Japan/United States Eastbound Freight Conference.

Parties:

American President Lines, Ltd.

Hapag-Lloyd Container Line GmbH

Kawasaki Kisen Kaisha, Ltd.

Mitsui O.S.K. Lines, Ltd.

A.P. Moller-Maersk Sealand

Nippon Yusen Kaisha

Orient Overseas Container Line, Inc.

P&O Nedlloyd B.V.

P&O Nedlloyd Limited

Wallenius Wilhelmsen Lines AS

Synopsis: The proposed amendment would further extend the suspension of the Agreement for an additional six-month period through January 31, 2001.

Dated: June 23, 2000.
By Order of the Federal Maritime Commission.
Bryant L. VanBrakle,
Secretary.

[FR Doc. 00-16389 Filed 6-27-00; 8:45 am]

BILLING CODE 6730-01-P